NATIONAL TRANSPORTATION SAFETY BOARD

Sunshine Act Meeting

TIME AND PLACE: 9:30 a.m., Tuesday, March 9, 2004.

PLACE: NTSB Conference Center, 429 L'Enfant Plaza, SW., Washington, DC 20594.

STATUS: The two items are open to the public.

MATTERS TO BE CONSIDERED:

7461A Railroad Accident Report—Derailment of a Canadian Pacific Railway Train near Minot, North Dakota, on January 18, 2002.

7539A Marine Accident Report—Sinking of the U.S. Small Passenger Vessel Panther near Everglades City, Florida, on December 30, 2002.

NEWS MEDIA CONTACT: Telephone (202) 314-6100.

Individuals requesting specific accommodations should contact Ms. Carolyn Dargan at (202) 314-6305 by Friday, March 5, 2004.

The public may view the meeting via a live or archived webcast by accessing a link under “News & Events” on the NTSB home page at www.ntsb.gov.

FOR MORE INFORMATION CONTACT: Vicky D'Onofrio, (202) 314-6410.

Dated: February 27, 2004.
Vicky D'Onofrio,
Federal Register Liaison Officer.

[FR Doc. 04-4747 Filed 2-27-04; 2:11 pm]

BILLING CODE 7533-01-M